EXPORT-IMPORT BANK

[Public Notice: 2017-6005]

Agency Information Collection Activities: Comment Request on Form EIB 10-04 Notice of Claim and Proof of Loss, Working Capital Guarantee

AGENCY: Export-Import Bank of the United States.

ACTION: Submission for OMB review and comments request.

SUMMARY: The Export-Import Bank of the United States (Ex-Im Bank), as part of its continuing effort to reduce paperwork and respondent burden, invites the general public and other Federal Agencies to comment on the proposed information collection, as required by the Paperwork Reduction Act of 1995.

DATES: Comments must be received on or before September 5, 2017 to be assured of consideration.

ADDRESSES: Comments may be submitted electronically on www.regulations.gov or by mail to Mardel West, Export-Import Bank of the United States, 811 Vermont Ave. NW., Washington, DC 20571.

SUPPLEMENTARY INFORMATION: By neutralizing the effect of export credit support offered by foreign governments and by absorbing credit risks that the private sector will not accept, Ex-Im Bank enables U.S. exporters to compete fairly in foreign markets on the basis of price and product. Under the Working Capital Guarantee Program, Ex-Im Bank provides repayment guarantees to lenders on secured, short-term working capital loans made to qualified exporters. The guarantee may be approved for a single loan or a revolving line of credit. In the event that a borrower defaults on a transaction guaranteed by Ex-Im Bank the guaranteed lender may seek payment by the submission of a claim.

This collection of information is necessary, pursuant to 12 U.S.C. 635(a)(1), to determine if such claim complies with the terms and conditions of the relevant working capital guarantee. The Notice of Claim and Proof of Loss, Working Capital Guarantee is used to determine compliance with the terms of the guarantee and the appropriateness of paying a claim. Export-Import Bank customers are able to submit this form on paper or electronically.

The information collection tool can be reviewed at: http://www.exim.gov/pub/pending/eib10-04.pdf.

Title and Form Number: EIB 10-04 Notice of Claim and Proof of Loss, Working Capital Guarantee.

OMB Number: 3048-0035.

Type of Review: Regular.

Need and Use: This collection of information is necessary, pursuant to 12 U.S.C. 635(a)(1), to determine if such claim complies with the terms and conditions of the relevant guarantee.

Affected Public: This form affects entities involved in the export of U.S. goods and services.

Annual Number of Respondents: 17.

Estimated Time per Respondent: 1 hour.

Annual Burden Hours: 17 hours.

Frequency of Reporting of Use: As needed to request a claim payment.

Government Expenses:

Reviewing time per year: 17 hours.

Average Wages per Hour: $42.50.

Average Cost per Year: $722.50 (time*wages).

Benefits and Overhead: 20%.

Total Government Cost: $867.

Bassam Doughman,
Project Manager, Export-Import Bank of the United States.

[FR Doc. 2017-16102 Filed 8-3-17; 8:45 am]

BILLING CODE 6690-01-P